DEPARTMENT OF AGRICULTURE

Forest Service

Nationwide Aerial Application of Fire Retardant on National Forest System Lands

AGENCY: Forest Service, USDA.

ACTION: Notice of intent to prepare an environmental impact statement.

SUMMARY: The Forest Service will prepare a programmatic environmental impact statement for the continued nationwide aerial application of fire retardant on National Forest System lands. The responsible official for this action is the Chief of the Forest Service. The Forest Service invites comments at this time on the proposed action.

DATES: Comments concerning the scope of the analysis must be received by October 12, 2010.

ADDRESSES: Send written comments to U.S. Forest Service, P.O. Box 26667, Salt Lake City, UT 84126-0667. Comments may also be sent via e-mail to FireRetardantEIS@fs.fed.us.

FOR FURTHER INFORMATION CONTACT: Joe Carbone, Assistant Director for Ecosystem Management Coordination, Forest Service, 202-205-0884, or e-mail: jcarbone@fs.fed.us.

Individuals who use telecommunication devices for the deaf (TDD) may call the Federal Information Relay Service (FIRS) at 1-800-877-8339 between 8 a.m. and 8 p.m., Eastern Standard Time, Monday through Friday.

SUPPLEMENTARY INFORMATION: The Forest Service is working to restore fire-adapted ecosystems through prescribed fire, other fuel treatments, and effective management of wildfire to achieve both protection and resource benefit objectives. However, in some circumstances, fire must be suppressed. For example, it might be necessary to suppress a fire to protect life or property or to preserve natural resources and critical habitat for threatened and endangered species. Fire retardant is one of the tools used to suppress fires.

Aerially applied fire retardant reduces the spread and intensity of fires and slows larger, more damaging, and thus, more costly fires. In many situations, using retardant to fight fires is the most effective and efficient method of protecting people, resources, private property, and facilities; sometimes it is the only tool that will allow fire fighters to accomplish the job in a safe manner.

In October 2007, the Forest Service issued an environmental assessment (EA) and decision notice and finding of no significant impact (DN/FONSI) entitled “Aerial Application of Fire Retardant”. In February 2008, the Forest Service amended the DN/FONSI by incorporating the reasonable and prudent alternatives proposed by the United States Fish and Wildlife Service (USFWS) and National Oceanic and Atmospheric Administration (NOAA) Fisheries during the Section 7 consultation process prescribed by the Endangered Species Act (ESA).

On July 27, 2010, the United States District Court for the District of Montana issued a decision in Forest Service Employees for Environmental Ethics v. United States Forest Service, 08-43 (D. Mont.) that invalidated the Forest Service's decision to adopt the 2000 Guidelines based on violations of NEPA. The Court also held that the USFWS and NOAA Fisheries' Section 7 consultation with the Forest Service violated the ESA. The Court directed the Forest Service, USFWS, and NOAA Fisheries to cure these NEPA and ESA violations and for the Forest Service to issue a new decision no later than December 31, 2011.

Estimated Dates

The draft environmental impact statement is expected to be available for public comment early in 2011 and the final EIS is expected to be completed by the fall of 2011.

Purpose and Need for Action

Adopting the proposed action would give the Forest Service the ability to reduce wildfire intensities and rates of spread under certain circumstances until ground forces can safely take suppression action over the duration of an incident. High fire intensities and rates of spread greatly reduce the ability of ground-based firefighters to safely fight wildland fires. In addition, the remote locations and rugged topography associated with many wildland fires can delay the deployment of ground forces for suppression. In some situations, firefighters need the ability to quickly reduce rates of spread and intensities of wildland fires, often in remote locations, and to do so until ground forces can safely take suppression action or until a wildfire is contained or controlled.

Proposed Action

The Forest Service proposes to continue the aerial application of fire retardant to fight fires on National Forest System Lands. Aerial application would be conducted, as it is now, under “Guidelines for Aerial Delivery of Retardant or Foam Near Waterways” (2000 Guidelines) adopted by the Forest Service, Bureau of Land Management, National Park Service, and Fish and Wildlife Service in April 2000. The 2000 Guidelines are a means to minimize the impact of aerially-delivered fire retardant on aquatic life and habitat. The 2000 Guidelines, available at http://www.fs.fed.us/rm/fire/retardants/current/gen/appguide.htm are as follows:

Definition: WATERWAY—Any body of water including lakes, rivers, streams and ponds whether or not they contain aquatic life.

Avoid aerial application of retardant or foam within 300 feet of waterways.

These guidelines do not require the helicopter or airtanker pilot-in-command to fly in such a way as to endanger his or her aircraft, other aircraft, or structures or compromise ground personnel safety.

Guidance for pilots: To meet the 300-foot buffer zone guideline, implement the following:

Medium/Heavy Airtankers: When approaching a waterway visible to the pilot, the pilot shall terminate the application of retardant approximately 300 feet before reaching the waterway. When flying over a waterway, pilots shall wait one second after crossing the far bank or shore of a waterway before applying retardant. Pilots shall make adjustments for airspeed and ambient conditions such as wind to avoid the application of retardant within the 300-foot buffer zone.

Single Engine Airtankers: When approaching a waterway visible to the pilot, the pilot shall terminate application of retardant or foam approximately 300 feet before reaching the waterway. When flying over a waterway, the pilot shall not begin application of foam or retardant until 300 feet after crossing the far bank or shore. The pilot shall make adjustments for airspeed and ambient conditions such as wind to avoid the application of retardant within the 300-foot buffer zone.

Helicopters: When approaching a waterway visible to the pilot, the pilot shall terminate the application of retardant or foams 300 feet before reaching the waterway. When flying over a waterway, pilots shall wait five seconds after crossing the far bank or shore before applying the retardant or foam. Pilots shall make adjustments for airspeed and ambient conditions such as wind to avoid the application of retardant or foam within the 300-foot buffer zone.

Exceptions:

When alternative line construction tactics are not available due to terrain constraints, congested area, life and property concerns or lack of ground personnel, it is acceptable to anchor the foam or retardant application to the waterway. When anchoring a retardant or foam line to a waterway, use the most accurate method of delivery in order to minimize placement of retardant or foam in the waterway (e.g., a helicopter rather than a heavy airtanker).

Deviations from these guidelines are acceptable when life or property is threatened and the use of retardant or foam can be reasonably expected to alleviate the threat.

When potential damage to natural resources outweighs possible loss of aquatic life, the unit administrator may approve a deviation from these guidelines.

Threatened and Endangered (T&E) Species:

The following provisions are guidance for complying with the emergency section 7 consultation procedures of the Endangered Species Act (ESA) with respect to aquatic species. These provisions do not alter or diminish an action agency's responsibilities under the ESA.

Where aquatic T&E species or their habitats are potentially affected by aerial application of retardant or foam, the following additional procedures apply:

1. As soon as practicable after the aerial application of retardant or foam near waterways, determine whether the aerial application has caused any adverse effects to a T&E species or their habitat. This can be accomplished by the following:

a. Aerial application of retardant or foam outside 300 feet of a waterway is presumed to avoid adverse effects to aquatic species and no further consultation for aquatic species is necessary.

b. Aerial application of retardant or foam within 300 feet of a waterway requires that the unit administrator determine whether there have been any adverse effects to T&E species within the waterway.

These procedures shall be documented in the initial or subsequent fire reports.

2. If there were no adverse effects to aquatic T&E species or their habitats, there is no additional requirement to consult on aquatic species with Fish and Wildlife Service (FWS) or National Marine Fisheries Service (NMFS).

3. If the action agency determines that there were adverse effects on T&E species or their habitats then the action agency must consult with FWS and NMFS, as required by 50 CFR 402.05 (Emergencies). Procedures for emergency consultation are described in the Interagency Consultation Handbook, Chapter 8 (March 1998) [U.S. Fish and Wildlife Service and National Marine Fisheries Service 1998]. In the case of a long duration incident, emergency consultation should be initiated as soon as practical during the event. Otherwise, post-event consultation is appropriate. The initiation of the consultation is the responsibility of the unit administrator.

Each agency will be responsible for ensuring that the appropriate guides and training manuals reflect these guidelines.

Additionally, the proposed action includes the reasonable and prudent alternatives for aerial application of fire retardant on national forest system lands developed by the U.S. Fish and Wildlife Service and National Marine Fisheries Service available at http://www.fs.fed.us/fire/retardant/index.html. Forest Service reports on applying the reasonable and prudent alternatives are also included on this Web site.

Responsible Official and Lead Agency

The USDA Forest Service is the lead agency for this proposal. The Chief of the Forest Service is the responsible official.

Nature of Decision To Be Made

The decision to be made is whether to continue aerial application of fire retardant and if so, under the 2000 Guidelines or under some other guidance.

Scoping Process

The publication of this notice of intent starts the scoping process, which guides preparation of the environmental impact statement. There will be further opportunities for public involvement and information sharing about the proposed action, including a comment period on the draft environmental impact statement. Public information and involvement opportunities and documents will be posted at http://www.fs.fed.us/fire/retardant/index.html. The site presently contains information such as a 2007 environmental assessment and associated comments that are also being used to prepare the draft environmental impact statement.

It is important that reviewers provide their comments at such times and in such a way that they are useful to the Agency's preparation of the environmental impact statement. Therefore, comments should be provided prior to the close of the comment period and should clearly articulate the reviewer's concerns and contentions.

Comments received in response to this solicitation, including names and addresses of those who comment, will be part of the public record for this proposed action. Comments submitted anonymously will be accepted and considered.

Dated: August 24, 2010.
Gloria Manning,
Associate Deputy Chief, NFS.

[FR Doc. 2010-21482 Filed 8-26-10; 8:45 am]

BILLING CODE 3410-11-P